DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 21, 2013. Address written comments to Statutory Import Programs Staff, Room 3720, U.S. Department of Commerce, Washington, DC 20230. Applications may be examined between 8:30 a.m. and 5:00 p.m. at the U.S. Department of Commerce in Room 3720.

Docket Number: 13-001. Applicant: Oregon Health and Science University, 3181 SW Sam Jackson Park Rd., Portland, OR 97239. Instrument: Electron Microscope. Manufacturer: FEI Company, the Netherlands. Intended Use: The instrument will be used to obtain a powerfully detailed picture of the architecture of the molecular signals that function in normal and diseased tissues at the molecular, cell, tissue and organism levels. The data will be used to improve management of human diseases including cancer, cardiovascular disease, immunodeficiency and dementia. Justification for Duty-Free Entry: There are no instruments of the same general category manufactured in the United States. Application accepted by Commissioner of Customs: January 8, 2013.

Docket Number: 13-003. Applicant: Howard Hughes Medical Institute, 4000 Jones Bridge Rd., Chevy Chase, MD 20815. Instrument: Electron Microscope. Manufacturer: FEI, the Netherlands. Intended Use: The instrument will be used to examine biological specimens such as protein complexes, noninfectious virus, and small cells, to help elucidate function. Justification for Duty-Free Entry: There are no instruments of the same general category manufactured in the United States. Application accepted by Commissioner of Customs: February 11, 2013.

Docket Number: 13-004. Applicant: Georgia Institute of Technology, 901 Atlantic Dr., Atlanta, GA 30332. Instrument: Electron Microscope. Manufacturer: Hitachi High-Technologies Corp., Japan. Intended Use: The instrument will be used to observe the shape, size, crystal structure and composition of nanoparticles including metal nanocrystals, metal-oxide nanocrystals, and their combinations. The growth mechanism and properties of the materials will be investigated for biomedical and catalysis applications. Justification for Duty-Free Entry: There are no instruments of the same general category manufactured in the United States. Application accepted by Commissioner of Customs: February 11, 2013.

Docket Number: 13-005. Applicant: Case Western Reserve University, 10900 Euclid Ave., Cleveland, OH 44106-4965. Instrument: Electron Microscope. Manufacturer: JEOL Ltd., Japan. Intended Use: The instrument will be used to determine the three-dimensional structure at near-atomic (3-10Å) resolution for macromolecular (protein) complexes and at 20-30Å for tissue samples. Samples will include cryogenically frozen soluble and membrane proteins, protein complexes, protein/DNA and protein/RNA complexes, human, animal and plant viruses, and viral vectors (only noninfectious or in BioSafety Level 2 category) and tissue samples such as isolated mouse retinal cells. The objectives to be pursued include understanding the structure and conformational change of assemblies involved in biological processes such as ATP production, signal transduction, and DNA repair. Justification for Duty-Free Entry: There are no instruments of the same general category manufactured in the United States. Application accepted by Commissioner of Customs: February 5, 2013.

Docket Number: 13-006. Applicant: Oregon Health and Science University, 3181 SW Sam Jackson Park Rd., Portland, OR 97239. Instrument: Electron Microscope. Manufacturer: FEI Company, the Netherlands. Intended Use: The instrument will be used to obtain a powerfully detailed picture of the architecture of the molecular signals that function in normal and diseased tissues at the molecular, cell, tissue and organism levels. The data will be used to improve management of human diseases including cancer, cardiovascular disease, immunodeficiency and dementia. Justification for Duty-Free Entry: There are no instruments of the same general category manufactured in the United States. Application accepted by Commissioner of Customs: February 11, 2013.

Dated: Feburary 25, 2013.
Gregory W. Campbell,
Director of Subsidies Enforcement, Import Administration.

[FR Doc. 2013-04842 Filed 2-28-13; 8:45 am]

BILLING CODE 3510-DS-P